LIBRARY OF CONGRESS

Copyright Office

37 CFR Part 201

[Docket No. RM 2008-8]

Exemption to Prohibition on Circumvention of Copyright Protection Systems for Access Control Technologies

AGENCY: Copyright Office, Library of Congress.

ACTION: Notice of proposed rulemaking; correction.

SUMMARY: The Copyright Office published in the Federal Register on December 29, 2008, a notice pertaining to its triennial rulemaking proceeding in accordance with a provision of the Copyright Act which was added by the Digital Millennium Copyright Act and which provides that the Librarian of Congress may exempt certain classes of works from the prohibition against circumvention of technological measures that control access to copyrighted works. This document makes technical corrections to clarify the record of the proposed rulemaking.

FOR FURTHER INFORMATION CONTACT: Rob Kasunic, Principal Legal Advisor, Office of the General Counsel, Copyright GC/I&R, P.O. Box 70400, Washington, DC 20024-0400. Telephone (202) 707-8380; telefax (202) 707-8366.

SUPPLEMENTARY INFORMATION: The Copyright Office published in the Federal Register on December 29, 2008, a notice of proposed rulemaking pertaining to the fourth triennial rulemaking proceeding required by § 1201(a)(1)(C) of the Copyright Act. The notice contained a list of the proposed classes of work that the Office will consider for exemption from the prohibition against circumvention of technological measures that control access to copyrighted works. As published, the notice contained errors which could be misleading and/or require clarification.

Correction

In the Federal Register of December 29, 2008, in Docket No. RM 2008-8, make the following corrections:

1. On page 79425, in the third column, in the “ADDRESSES” section, line 12, the website address is corrected to read “http://www.copyright.gov/1201/comment-forms”.

2. On page 79427, in the first column, paragraph 7 is corrected to read:

“Computer programs” [for forensic analysis]. Proponent: Glenn Pannenborg.

3. On page 79427, in the third column, the third paragraph, line 6, the word “proceeding” is corrected to read “preceding”.

Dated: January 2, 2009.
David O. Carson,
General Counsel.

[FR Doc. E9-61 Filed 1-6-09; 8:45 am]

BILLING CODE 1410-30-S